DEPARTMENT OF THE TREASURY

Office of Investment Security

Notice of Availability of Committee on Foreign Investment in the United States Enforcement and Penalty Guidelines

AGENCY: Office of Investment Security, Department of the Treasury.

ACTION: Notice of availability.

SUMMARY: By this Notice, the Department of the Treasury (Treasury Department), announces the availability of the Committee on Foreign Investment in the United States (CFIUS) Enforcement and Penalty Guidelines. These guidelines provide the public with a summary of CFIUS's practice regarding penalties and other remedies for violations of section 721 of the Defense Production Act of 1950 as amended (Section 721), the regulations promulgated thereunder, or mitigation agreements, conditions, or orders pursuant thereto (Violations).

ADDRESSES: The CFIUS Enforcement and Penalty Guidelines text is available on the CFIUS section of the Treasury Department's website at https://home.treasury.gov/policy-issues/international/the-committee-on-foreign-investment-in-the-united-states-cfius/cfius-enforcement-and-penalty-guidelines.

FOR FURTHER INFORMATION CONTACT: David Shogren, Acting Director for Monitoring and Enforcement, Office of Investment Security; Jesse J. Sucher, Deputy Director for Monitoring and Enforcement, Office of Investment Security, (202) 622-1860.

SUPPLEMENTARY INFORMATION: Section 721 (codified at 50 U.S.C. 4565) authorizes CFIUS to impose monetary penalties and seek other remedies for Violations. See, e.g., Section 721(h), (l). The Treasury Department has issued final rules implementing this authority. E.g., 31 CFR 800.901, 800.902, 801.409, 802.901, and 802.902. The CFIUS Enforcement and Penalty Guidelines provide the public with CFIUS's practice regarding penalties and other remedies for Violations.

The CFIUS Enforcement and Penalty Guidelines are not binding on CFIUS or the public. These guidelines are not intended to, do not, and may not be relied upon to create any right or benefit, substantive or procedural, enforceable at law by any party in any administrative, civil, or criminal matter. They may be updated as circumstances require. To the extent of any inconsistency between Section 721 or the regulations at chapter VIII of title 31 of the Code of Federal Regulations, on the one hand, and the CFIUS Enforcement and Penalty Guidelines, on the other, Section 721 and the regulations prevail.

The text of the CFIUS Enforcement Guidelines is available in its entirety on the CFIUS section of the Treasury Department's website at https://home.treasury.gov/policy-issues/international/the-committee-on-foreign-investment-in-the-united-states-cfius/cfius-enforcement-and-penalty-guidelines.

Paul M. Rosen,
Assistant Secretary of the Treasury for Investment Security.

[FR Doc. 2022-23803 Filed 11-1-22; 8:45 am]

BILLING CODE 4810- AK-P